DEPARTMENT OF THE TREASURY

Fiscal Service

Surety Companies Acceptable On Federal Bonds: Name, Address and Phone Number Change: Van Tol Surety Company, Incorporated (NAIC #30279)

AGENCY: Financial Management Service, Fiscal Service, Department of the Treasury.

ACTION: Notice.

SUMMARY: This is Supplement No. 14 to the Treasury Department Circular 570, 2011 Revision, published July 1, 2011, at 76 FR 38892.

FOR FURTHER INFORMATION CONTACT: Surety Bond Branch at (202) 874-6850.

SUPPLEMENTARY INFORMATION: Notice is hereby given that Van Tol Surety Company, Incorporated (NAIC #30279) has changed its name to Boston Indemnity Company, Inc., effective January 3, 2012. In addition, the new address is 300 Brickstone Square, Ste. 201, Andover, Massachusetts 01810. The new phone number is (978) 662-5131. Federal bond-approving officials should annotate their reference copies of the Treasury Department Circular 570 (“Circular”), 2011 Revision, to reflect this change.

The Circular may be viewed and downloaded through the Internet at http://www.fms.treas.gov/c570.

Questions concerning this Notice may be directed to the U.S. Department of the Treasury, Financial Management Service, Financial Accounting and Services Division, Surety Bond Branch, 3700 East-West Highway, Room 6F01, Hyattsville, MD 20782.

Dated: February 27, 2012.
Laura Carrico,
Director, Financial Accounting and Services Division, Financial Management Service.

[FR Doc. 2012-5532 Filed 3-7-12; 8:45 am]

BILLING CODE 4810-35-M